DEPARTMENT OF HEALTH AND HUMAN SERVICES

Administration for Children and Families

Proposed Information Collection Activity; Comment Request

Proposed Projects

Title: Head Start Program Grant Application and Budget Instrument.

OMB No.: 0970-0207.

Description: The Head Start program is proposing to renew the Head Start Program Grant Application and Budget Instrument, which standardizes the grant application information that is requested from all Head Start grantees applying for continuation grants. The application and budget forms are available on a data diskette and can be transmitted electronically to Regional and Central Offices. The Administration for Children, Youth and Families believes that, in promulgating this application document, the process of applying for Head Start program grants is made more efficient for applicants.

Respondents: Head Start Program grants recipients.

Annual Burden Estimates
Instrument | Number of respondents | Number of responses per respondent | Average burden hours per response | total burden hours
Head Start Grant Application and Budget Instrument | 1600 | 1 | 33 | 52,800
Estimated Total Annual Burden Hours: |  |  |  | 52,800

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: January 21, 2003.
Bob Sargis,
Reports Clearance Officer.

[FR Doc. 03-1968 Filed 1-28-03; 8:45 am]

BILLING CODE 4184-01-M